DEPARTMENT OF AGRICULTURE

U.S. Codex Office

Codex Alimentarius Commission: Meeting of the Codex Committee on Contaminants in Food

AGENCY: U.S. Codex Office, USDA.

ACTION: Notice of public meeting and request for comments.

SUMMARY: The U.S. Codex Office is sponsoring a public meeting on March 27, 2023, from 1:00 p.m. to 4:00 p.m. EDT. The objective of the public meeting is to provide information and receive public comments on agenda items and draft U.S. positions to be discussed at the 16th Session of the Codex Committee on Contaminants in Foods (CCCF) of the Codex Alimentarius Commission, in Utrecht, Netherlands on April 18-21 (in person) and April 26, 2023 (virtual report adoption). The U.S. Manager for Codex Alimentarius and the Under Secretary for Trade and Foreign Agricultural Affairs recognize the importance of providing interested parties the opportunity to obtain background information on the 16th Session of the CCCF and to address items on the agenda.

DATES: The public meeting is scheduled for March 27, 2023, from 1:00 p.m. to 4:00 p.m. EDT via Video Teleconference only.

ADDRESSES: Documents related to the 16th Session of the CCCF will be accessible via the internet at the following address: https://www.fao.org/fao-who-codexalimentarius/meetings/detail/en/?meeting=CCCF&session=16.

Dr. Lauren Posnick Robin, U.S. Delegate to the 16th Session of the CCCF, invites interested U.S. parties to submit their comments electronically to the following email address: Quynh-Anh Nguyen, quynh-anh.nguyen@fda.hhs.gov. Emailed comments should state in the title that they relate to activities of the 16th Session of the CCCF.

Registration: Attendees may register to attend the public meeting here: https://fda.zoomgov.com/meeting/register/vJItf-qrrTotHHFHSsnbirJ1PZMFJrvaoUI.

After registering, you will receive a confirmation email containing information about joining the meeting.

For further information about the 16th session of CCCF, contact U.S. Delegate, Dr. Lauren Posnick Robin, lauren.robin@fda.hhs.gov.

For further Information about the public meeting, contact: U.S. Codex Office, uscodex@usda.gov, or Quynh-Anh Nguyen, quynh-anh.nguyen@fda.hhs.gov, Phone (240) 402-2028.

SUPPLEMENTARY INFORMATION:

Background

Codex was established in 1963 by two United Nations organizations, the Food and Agriculture Organization (FAO) and the World Health Organization (WHO). Through adoption of food standards, codes of practice, and other guidelines developed by its committees, and by promoting their adoption and implementation by governments, Codex seeks to protect the health of consumers and ensure fair practices in the food trade.

The Codex Committee on Contaminants in Foods (CCCF) is responsible for:

(a) Establishing or endorsing permitted maximum levels and where necessary, revising existing guideline levels, for contaminants and naturally occurring toxicants in food and feed;

(b) Preparing priority lists of contaminants and naturally occurring toxicants for risk assessment by the Joint FAO/WHO Expert Committee on Food Additives (JEFCA).

(c) Considering and elaborating methods of analysis and sampling for the determination of contaminants and naturally occurring toxicants in food and feed;

(d) Considering and elaborating standards or codes of practice for related subjects; and

(e) Considering other matters assigned to it by the Commission in relation to contaminants and naturally occurring toxicants in food and feed.

The Committee is hosted by the Netherlands. The United States attends the CCCF as a member country of Codex.

Issues To Be Discussed at the Public Meeting

The following items on the Agenda for the 16th Session of the CCCF will be discussed during the public meeting:

• Matters referred to CCCF by the Codex Alimentarius Commission and/or its subsidiary bodies.

• Matters of interest arising from FAO and WHO (including JECFA).

• Matters of interest arising from other international organizations.

• Maximum levels for lead in certain food categories.

• Code of practice for prevention and reduction of mycotoxin contamination in cassava and cassava-based products.

• Sampling plans for total aflatoxins in certain cereals and cereal-based products including foods for infants and young children.

• Maximum level for total aflatoxins in ready-to-eat peanuts and associated sampling plan.

• Maximum levels for total aflatoxins and ochratoxin A in nutmeg, dried chili and paprika, ginger, pepper and turmeric and associated sampling plans.

• Discussion Paper on Ciguatoxins.

• Discussion Paper on Pyrrolizidine alkaloids.

• Guidance on data analysis for development of maximum levels and for improved data collection.

• Forward work-plan for CCCF.

○ Review of staple food-contaminant combinations for future work of CCCF.

• Review of Codex standards for contaminants.

• Follow-up Work to the Outcomes of JECFA Evaluations and FAO/WHO Expert Consultations.

• Priority list of contaminants and naturally occurring toxicants proposed for evaluation by JECFA.

• Other business and future work.

Public Meeting

At the March 27, 2023 public meeting, draft U.S. positions on the agenda items will be described and discussed, and attendees will have the opportunity to pose questions and offer comments. Written comments may be offered at the meeting or sent to quynh-anh.nguyen@fda.hhs.gov. Emailed comments should state in the title that they relate to activities of the 16th Session of the CCCF.

Additional Public Notification

Public awareness of all segments of rulemaking and policy development is important. Consequently, the U.S. Codex Office will announce this Federal Register publication on-line through the USDA Codex web page located at: http://www.usda.gov/codex, a link that also offers an email subscription service providing access to information related to Codex. Customers can add or delete their subscriptions themselves and have the option to password protect their accounts.

USDA Non-Discrimination Statement

No agency, officer, or employee of the USDA shall, on the grounds of race, color, national origin, religion, sex, gender identity, sexual orientation, disability, age, marital status, family/parental status, income derived from a public assistance program, or political beliefs, exclude from participation in, deny the benefits of, or subject to discrimination any person in the United States under any program or activity conducted by the USDA.

How To File a Complaint of Discrimination

To file a complaint of discrimination, complete the USDA Program Discrimination Complaint Form, which may be accessed online at https://www.usda.gov/oascr/filing-program-discrimination-complaint-usda-customer, or write a letter signed by you or your authorized representative. Send your completed complaint form or letter to USDA by mail, fax, or email. Mail: U.S. Department of Agriculture, Director, Office of Adjudication, 1400 Independence Avenue SW, Washington, DC 20250-9410; Fax: (202) 690-7442; Email: program.intake@usda.gov. Persons with disabilities who require alternative means for communication (Braille, large print, audiotape, etc.) should contact USDA's TARGET Center at (202) 720-2600 (voice and TDD).

Done at Washington, DC, on February 24, 2023.
Mary Frances Lowe,
U.S. Manager for Codex Alimentarius.

[FR Doc. 2023-04236 Filed 3-1-23; 8:45 am]

BILLING CODE P